DEPARTMENT OF ENERGY

Federal Energy Regulatory Commission

[Docket No. ER00-644-001, et al.]

Calpine Philadelphia, Inc., et al.; Electric Rate and Corporate Filings

January 28, 2003.

The following filings have been made with the Commission. The filings are listed in ascending order within each docket classification.

1. Calpine Philadelphia, Inc.

[Docket No. ER00-644-001]

Take notice that on January 23, 2003, Calpine Philadelphia, Inc. submitted for filing with the Federal Energy Regulatory Commission (Commission) its triennial market power analysis in compliance with the Commission order issued in this docket on January 12, 2000.

Comment Date: February 13, 2003.

2. PJM Interconnection, L.L.C.

[Docket No. ER02-1326-005]

Take notice that on January 24, 2003, PJM Interconnection, L.L.C. (PJM) amended its January 21, 2003, filing made in compliance with the Commission's December 19, 2002, order in PJM Interconnection, L.L.C., 101 FERC ¶ 61,308. PJM amends its January 21, 2003, compliance filing to include retroactive sheets of the PJM Open Access Transmission Tariff and the Amended and Restated Operating Agreement of PJM Interconnection, L.L.C., in accordance with Designation of Electric Rate Schedule Sheets, Order No. 614.

PJM states that copies of this filing have been served on all parties listed on the official service list compiled by the Secretary in this proceeding, all PJM members, and each state electric utility regulatory commission in the PJM region.

Comment Date: February 14, 2003.

3. PJM Interconnection, L.L.C.

[Docket No. ER02-2491-001]

Take notice that on January 24, 2003, in compliance with the Federal Energy Regulatory Commission's (Commission) October 16, 2002, letter order in this proceeding, PJM Interconnection, L.L.C. (PJM) submitted for filing five substitute interim interconnection service agreements between PJM and Handsome Lake Energy L.L.C., PPL Martins Creek LLC, and Pennsylvania Electric Company d/b/a GPU Energy, one substitute interconnection service agreement between PJM and Pennsylvania Electric Company, and three notices of cancellation.

PJM states that copies of this filing were served upon all the persons on the official service list and the parties to the agreements.

Comment Date: February 14, 2003.

4. The Detroit Edison Company

[Docket No. ER03-19-001]

Take notice that on January 24, 2003, The Detroit Edison Company submitted its response to the letter issued by FERC staff in the captioned proceeding on November 27, 2002. FERC staff requested additional information about Detroit Edison's October 4, 2002, filing.

Comment Date: February 14, 2003.

5. Mirant Delta, LLC; Mirant Potrero, LLC

[Docket No. ER03-215-001]

Take notice that on January 24, 2003, Mirant Delta, LLC and Mirant Potrero, LLC (collectively, Mirant) submitted a filing with the Federal Energy Regulatory Commission (Commission) in compliance with the Commission's directives in its Order Accepting for Filing and Suspending Proposed Revisions to Reliability Must-Run Agreements, issued in the captioned docket on January 16, 2003, 102 FERC ¶ 61,040 (2003).

Comment Date: February 14, 2003.

6. Progress Energy Service Company on behalf of Progress Energy Carolinas, Inc.

[Docket Nos. ER03-433-000, ER03-441-000 and ER03-442-000]

Take notice that on January 24, 2003, Progress Energy Service Company on behalf of Progress Energy Carolinas, Inc. (Progress Carolinas) tendered for filing a notice of withdrawal of its service agreements under Market Based Rate Tariff in the above-captioned dockets. Consistent with Order No. 2001, the company is no longer required to file its market-based service agreements in paper form with the Commission.

Progress Carolinas state that copies of the filing were served upon the counterparties to the agreements and the relevant state commissions.

Comment Date: February 14, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-2877 Filed 2-5-03; 8:45 am]

BILLING CODE 6717-01-P